DEPARTMENT OF VETERANS AFFAIRS

Advisory Committee on Homeless Veterans; Notice of Meeting

The Department of Veterans Affairs (VA) gives notice under Public Law 92-463 (Federal Advisory Committee Act) that a meeting of the Advisory Committee on Homeless Veterans will be held on September 20-21, 2011. On September 20, the Committee will conduct several site visits identified below. On September 21, the Committee will meet in the Yosemite McKinley Room at the Crown Plaza Hotel-Seattle, 1113 Sixth Avenue, Seattle, WA, from 8 a.m. to 4 p.m. The meeting is open to the public.

The purpose of the Committee is to provide the Secretary of Veterans Affairs with an on-going assessment of the effectiveness of the policies, organizational structures, and services of the Department in assisting homeless Veterans. The Committee shall assemble and review information relating to the needs of homeless Veterans and provide on-going advice on the most appropriate means of providing assistance to homeless Veterans. The Committee will make recommendations to the Secretary regarding such activities.

On September 20, the Committee will have site visits at Catholic Housing Services of Western Washington, 7050 G Street, Tacoma, Washington; Washington State Veterans Home, 1141 Beach Drive East, Point Orchard, Washington; and 1811 Housing Project, 11564 Southeast State Highway 160, Southworth, Washington.

On September 21, the agenda will include briefings by ex-officio members; Veterans Health Administration; Veterans Benefits Administration; and Office of Asset Management. The Committee will also receive briefings on ways to increase permanent housing; improve housing stability and enhance discharge planning for homeless and at risk Veterans. The Committee will also receive updates and responses to Committee suggestions.

No time will be allocated at this meeting for receiving oral presentations from the public. Interested parties should provide written comments on issues affecting homeless Veterans for review by the Committee to Mr. Pete Dougherty, Designated Federal Officer, Homeless Veterans Initiative Office (075D), Department of Veterans Affairs, 1722 Eye Street, NW., Washington, DC 20006, or e-mail to Pete.Dougherty@va.gov. Individuals who wish to attend the meeting should contact Mr. Dougherty at (202) 461-1857.

Dated: September 9, 2011.
By Direction of the Secretary.
Vivian Drake,
Acting Committee Management Officer.

[FR Doc. 2011-23494 Filed 9-13-11; 8:45 am]

BILLING CODE P